DEPARTMENT OF THE INTERIOR

Fish and Wildlife Service

[FWS-HQ-IA-2015-N115; FXIA16710900000-156-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species or marine mammals. With some exceptions, the Endangered Species Act (ESA) and Marine Mammal Protection Act (MMPA) prohibit activities with listed species unless Federal authorization is acquired that allows such activities.

DATES: We must receive comments or requests for documents on or before July 13, 2015. We must receive requests for marine mammal permit public hearings, in writing, at the address shown in the ADDRESSES section by July 13, 2015.

ADDRESSES: Brenda Tapia, U.S. Fish and Wildlife Service, Division of Management Authority, Branch of Permits, MS: IA, 5275 Leesburg Pike, Falls Church, VA 22041; fax (703) 358-2281; or email DMAFR@fws.gov.

FOR FURTHER INFORMATION CONTACT: Brenda Tapia, (703) 358-2104 (telephone); (703) 358-2281 (fax); DMAFR@fws.gov (email).

SUPPLEMENTARY INFORMATION:

I. Public Comment Procedures

A. How Do I Request Copies of Applications or Comment on Submitted Applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I Review Comments Submitted by Others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: Tanganyika Wildlife Park, Goddard, KS; PRT-51119B

The applicant requests a permit to import one female captive-born mandrill (Mandrillus sphinx) from the Moscow Zoo, Moscow, Russia, for the purpose of enhancement of the species through captive propagation and conservation education.

Applicant: Tanganyika Wildlife Park, Goddard, KS; PRT-54794B

The applicant requests a permit to import one male and one female captive-born mandrill (Mandrillus sphinx) from Nature Resource Network S.R.O., Zbecno, Czech Republic, for the purpose of enhancement of the species through captive propagation and conservation education.

Applicant: Wildlife Conservation Society, Bronx, NY; PRT-60999B

The applicant requests a permit to import 12 live gavials (Gavialis gangeticus) from the Madras Crocodile Bank Trust, Tamil Nadu, India, for the purpose of enhancement of the survival of the species.

Applicant: Disney's Animal Kingdom, Bay Lake, FL; PRT-63962B

The applicant requests a permit to import four male captive-born African wild dogs (Lycaon pictus pictus) from the Perth Zoo, South Perth, Australia, for the purpose of enhancement of the species through captive propagation and conservation education.

Applicant: Wildlife & Environmental Conservation, Inc., Moorpark, CA; PRT-54022B

The applicant requests a captive-bred wildlife registration under 50 CFR 17.21(g) for leopard (Panthera pardus), snow leopard (Uncia uncia), Galapagos tortoise (Chelonoidis nigra), and radiated tortoise (Astrochelys radiata) to enhance the species' propagation or survival. This notification covers activities to be conducted by the applicant over a 5-year period.

Applicant: Virginia Zoological Park, Norfolk, VA; PRT-676511

The applicant request amendment of their captive-bred registration under 50 CFR 17.21(g) to add the following species: White-nape crane (Grus vipio), African elephant (Loxodonta africana), Goeldi's marmoset (Callimico goeldii), and orangutan (Pongo pygmaeus) to enhance the species' propagation or survival. This notification covers activities to be conducted by the applicant over a 5-year period.

Applicant: Wright Family LLC, Clarendon, TX; PRT-42009B

The applicant requests a captive-bred wildlife registration under 50 CFR 17.21(g) for the barasingha (Rucervus duvaucelii), Arabian oryx (Oryx leucoryx), and red lechwe (Kobus leche) to enhance the species' propagation or survival. This notification covers activities to be conducted by the applicant over a 5-year period.

Applicant: Wright Family LLC, Clarendon, TX; PRT-42018B

The applicant requests a permit authorizing interstate and foreign commerce, export, and cull of excess barasingha (Rucervus duvaucelii), Arabian oryx (Oryx leucoryx), and red lechwe (Kobus leche) from the captive herd maintained at their facility, for the purpose of enhancement of the survival of the species. This notification covers activities to be conducted by the applicant over a 5-year period.

Applicant: Lori Snook, Bolivar, OH; PRT-177999

The applicant requests a captive-bred wildlife registration under 50 CFR 17.21(g) for the radiated tortoise (Astrochelys radiate) to enhance the species' propagation or survival. This notification covers activities to be conducted by the applicant over a 5-year period.

Applicant: Stanford University, Stanford, CA; PRT-54288B

On May 27, 2015, we published a Federal Register notice inviting the public to comment on their application to conduct scientific research with gray mouse lemur (Microcebus rufus) [80 FR 30263]. The scientific name is being modified to conduct research with any species of mouse lemurs. All the other information we printed was correct. With this notice, we correct the scientific name and reopen the comment period for PRT-54288B. The corrected entry for this application is as follows: The applicant request a permit to import biological samples for mouse lemurs (Microcebus species) and (Mirza coquereli) from France and Madagascar, for the purpose of enhancement of the species through scientific research. This notification covers activities to be conducted by the applicant over a 5-year period.

Multiple Applicants

The following applicants each request a permit to import the sport-hunted trophy of one male bontebok (Damaliscus pygargus pygargus) culled from a captive herd maintained under the management program of the Republic of South Africa, for the purpose of enhancement of the survival of the species.

Applicant: Andrew Gwynn, Anna, TX; PRT-64739B

Applicant: Tadd Tellepsen, Houston, TX; PRT-65907B

Applicant: Marion Smith, Prairie City, IA; PRT-66658B

Applicant: James McDonald, Odessa, TX; PRT-63770B

B. Marine Mammals

Applicant: U.S. Geological Survey, Alaska Science Center, Anchorage, AK; PRT- 801652

The applicant requests an amendment of the permit to harass Pacific walrus (Odobenus rosmarus divergens) during at-sea trials and terrestrial aerial surveys with an Unmanned Aircraft System in Alaska for the purpose of scientific research. This notification covers activities to be conducted by the applicant for the remainder of the permit validity.

Concurrent with publishing this notice in the Federal Register, we are forwarding copies of the above application to the Marine Mammal Commission and the Committee of Scientific Advisors for their review.

Lisa Lierheimer,
Supervisory Policy Specialist,Branch of Permits, Division of Management Authority.

[FR Doc. 2015-14334 Filed 6-11-15; 8:45 am]

BILLING CODE 4310-55-P